DEPARTMENT OF COMMERCE

Foreign-Trade Zones Board

[B-27-2016]

Foreign-Trade Zone 103—Grand Forks, North Dakota; Application for Reorganization Under Alternative Site Framework

An application has been submitted to the Foreign-Trade Zones (FTZ) Board by the Grand Forks Regional Airport Authority, grantee of FTZ 103, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on May 2, 2016.

FTZ 103 was approved by the FTZ Board on April 27, 1984 (Board Order 253, 49 FR 19541, May 8, 1984). The grant of authority was reissued to the Grand Forks Regional Airport Authority on July 5, 1995 (Board Order 752, 60 FR 36104-36105, July 13, 1995).

The current zone includes the following sites in Grand Forks: Site 1 (6 acres)—Grand Forks International Airport, 2301 Airport Drive; Site 2 (2 acres)—Grand Forks Industrial Park, 830 South 48th Street; and, Site 3 (24 acres)—Ag Depot, 1168 12th Street NE.

The grantee's proposed service area under the ASF would include all of Grand Forks County, North Dakota, as described in the application. If approved, the grantee would be able to serve sites throughout the service area based on companies' needs for FTZ designation. The application indicates that the proposed service area is within and adjacent to the Grand Forks, North Dakota U.S. Customs and Border Protection port of entry.

The applicant is requesting authority to reorganize its existing zone under the ASF without including any of the existing sites in the reorganized zone. No new magnet sites or subzones/usage-driven sites are being requested at this time. The application would have no impact on FTZ 103's previously authorized subzone.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is July 5, 2016. Rebuttal comments in response to material submitted during the foregoing period may be submitted during the subsequent 15-day period to July 20, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Christopher Kemp at Christopher.Kemp@trade.gov or (202) 482-0862.

Dated: May 2, 2016.
Andrew McGilvray,
Executive Secretary.

[FR Doc. 2016-10760 Filed 5-5-16; 8:45 am]

BILLING CODE 3510-DS-P